DEPARTMENT OF LABOR

Employment and Training Administration

[TA-W-50,728 and TA-W-50,728A]

Delco Remy America, Inc., Anderson, Indiana; Delco Remy America, Inc. d/b/a Remy Logistic, Anderson, Indiana; Amended Certification Regarding Eligibility to Apply for Worker Adjustment Assistance

In accordance with section 223 of the Trade Act of 1974 (19 U.S.C. 2273) the Department of Labor issued a Certification of Eligibility to Apply for Worker Adjustment Assistance on March 24, 2003, applicable to workers of Delco Remy America, Inc., Anderson, North Carolina. The notice was published in the Federal Register on April 7, 2003 (68 FR 16834).

At the request of the company, the Department reviewed the certification for workers of the subject firm. The workers were engaged in the production of light and heavy duty starters and alternators.

Information shows that worker separations occurred at Remy Logistic, a division of Delco Remy America, Inc., Anderson, Indiana. Workers at Remy Logistic (a warehouse) ship, store and inspect products made by Delco Remy.

Accordingly, the Department is amending the certification to include workers of Delco Remy America, Inc., d/b/a Remy Logistic, Anderson, Indiana.

The intent of the Department's certification is to include all workers of Delco Remy America, Inc. who were adversely affected by increased imports.

The amended notice applicable to TA-W-50,728 is hereby issued as follows:

All workers of Delco Remy America, Inc., Anderson, Indiana (TA-W-50,728) and Delco Remy America, Inc. d/b/a/ Remy Logistic, Anderson, Indiana (TA-W-50,728A) who became totally or partially separated from employment on or after October 17, 2002, through March 24, 2005, are eligible to apply for adjustment assistance under Section 223 of the Trade Act of 1974.

Signed at Washington, DC this 28th day of May 2003.
Richard Church,
Certifying Officer, Division of Trade Adjustment Assistance.

[FR Doc. 03-15867 Filed 6-23-03; 8:45 am]

BILLING CODE 4510-30-P